DEPARTMENT OF THE INTERIOR

Bureau of Indian Affairs

Tribal Colleges and Universities Grants and Annual Reports

AGENCY: Bureau of Indian Affairs, Interior.

ACTION: Notice of Submission to the Office of Management and Budget.

SUMMARY: As required by the Paperwork Reduction Act, the Bureau of Indian Affairs (BIA) is submitting the following information collections to the Office of Management and Budget for renewal: (1) Tribal Colleges and Universities Annual Report Form, 25 CFR 41.9, OMB Control No. 1076-0105; and (2) Tribal Colleges and Universities Grant Application Form, 25 CFR 41.8, OMB Control No. 1076-0018.

DATES: Submit comments on or before July 20, 2009.

ADDRESSES: You may submit comments on the information collections to the Desk Officer for the Department of the Interior at the Office of Management and Budget, by facsimile to (202) 395-5806 or you may send an e-mail to: OIRA_DOCKET@omb.eop.gov. Please send a copy of your comments to Kevin Skenadore, Bureau of Indian Education, 1849 C Street, NW., Mail Stop 3609-MIB, Washington, DC 20240-0001. Facsimile to 202-208-3271.

FOR FURTHER INFORMATION CONTACT: You may request further information or obtain copies of the information collections from Chris Redman, Education Planning Specialist, Telephone (405) 605-6051, extension 305.

SUPPLEMENTARY INFORMATION:

I. Abstract

These information collections allow the Department of the Interior to provide Tribally controlled colleges and universities with financial assistance under the Tribally Controlled College Assistance Act of 1978, Public Law 95-471 (Act), and implementing regulations at 25 CFR part 41. The information collection associated with the grant application allows Bureau of Indian Education (BIE) staff to review grants to ensure that the Tribally controlled college or university is legally eligible for the grant. The information collection associated with the annual report allows BIE to obtain an accounting of amounts and purposes for which financial assistance was expended for the preceding academic year. A request for comments on this information collection request appeared in the Federal Register on Wednesday, March 11, 2009 (74 FR 10609). No comments were received regarding these information collections in response to the announcement.

II. Request for Comments

You are invited to send your comments on these information collections to the two locations listed in the ADDRESSES section. Your comments should address:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

OMB has up to 60 days after publication of this document in the Federal Register to make a decision on the submission for renewal, but may make the decision after 30 days. Therefore, to receive the best consideration of your comments, you should submit them during the first 30-day period.

Before including your address, phone number, e-mail address or other personally identifiable information, be advised that your entire comment—including your personally identifiable information—may be made public at any time. While you may request that we withhold your personally identifiable information, we cannot guarantee that we will be able to do so.

III. Data

A. Tribal Colleges and Universities Annual Report Form

OMB Control Number: 1076-0105.

Title of Collection: Tribal Colleges and Universities Annual Report Form, 25 CFR 41.9.

Brief Description of Collection: This information collection is a report on how the respondent used grant funds received in accordance with Public Law 95-471. Responses are required to receive or maintain a benefit.

Type of Review: Renewal.

Respondents: Tribally controlled colleges and universities.

Number of Respondents: 25.

Estimated Time per Response: 6 hours.

Frequency of Response: Annually.

Total Annual Burden to Respondents: 150 hours.

B. Tribal Colleges and Universities Grant Application Form

OMB Control Number: 1076-0018.

Title of Collection: Tribal Colleges and Universities Grant Application Form, 25 CFR 41.8.

Brief Description of Collection: This information collection is an application for grant funds. Responses are required to receive or maintain a benefit (i.e., grants) under Public Law 95-471.

Type of Review: Renewal.

Respondents: Tribally controlled colleges and universities.

Number of Respondents: 25.

Estimated Time per Response: 6 hours.

Frequency of Response: Annually.

Total Annual Burden to Respondents: 150 hours.

Dated: June 11, 2009.
Alvin Foster,
Acting Chief Information Officer—Indian Affairs.

[FR Doc. E9-14416 Filed 6-18-09; 8:45 am]

BILLING CODE 4310-6W-P